DEPARTMENT OF DEFENSE

Department of the Army

Notice of Intent To Grant Exclusive Patent License to TauMat, LLC; Silver Spring, MD

AGENCY: Department of the Army, DoD.

ACTION: Notice of intent.

SUMMARY: The Department of the Army hereby gives notice of its intent to grant to TauMat, LLC; a company having its principal place of business at 10010 Portland Place, Silver Spring, MD 20901, an exclusive license.

DATES: Written objections must be filed not later than 15 days following publication of this announcement.

ADDRESSES: Send written objections to U.S. Army Combat Capabilities Development Command Army Research Laboratory, Partnerships Support Office, FCDD-RLB-SS/Wendy Leonard, Building 4402, 6468 Integrity Ct., Aberdeen Proving Ground, MD 21005-5425 or email to ORTA@arl.army.mil.

FOR FURTHER INFORMATION CONTACT: Wendy Leonard, (410) 278-1646, E-Mail: wendy.a.leonard.civ@army.mil.

SUPPLEMENTARY INFORMATION: The Department of the Army plans to grant an exclusive license to TauMat, LLC in the following fields of use related to:

• Cooling and thermal energy storage associated with electronic and photonic devices.

• Cooling and thermal energy storage associated with battery/electrical storage devices during charging and discharging.

pertaining to the following;

—“Solid-State Martensitic Transformation Phase Change Material Components for Thermal Energy Storage and Transient Heat Transfer Systems”, ARL 19-02, US Patent Application No. 16/910,652, Filing Date: 06/24/2020, U.S. Publication No. 2020/0407615A1, Publication Date: 12/31/2020.

—“Solid-State Thermal Energy Storage Substrates and Methods for Same.”, ARL 22-04P, US Provisional Patent Application No. 63/521,035, Filing Date: 06/14/2023.

The prospective exclusive license may be granted unless within fifteen (15) days from the date of this published notice, the U.S. Army Combat Capabilities Development Command Army Research Laboratory receives written objections including evidence and argument that establish that the grant of the license would not be consistent with the requirements of 35 U.S.C. 209(e) and 37 CFR 404.7(a)(1)(i). Competing applications completed and received by the U.S. Army Combat Capabilities Development Command Army Research Laboratory within fifteen (15) days from the date of this published notice will also be treated as objections to the grant of the contemplated exclusive license.

Objections submitted in response to this notice will not be made available to the public for inspection and, to the extent permitted by law, will not be released under the Freedom of Information Act, 5 U.S.C. 552.

James W. Satterwhite Jr.,
Army Federal Register Liaison Officer.

[FR Doc. 2023-14890 Filed 7-12-23; 8:45 am]

BILLING CODE 5001-03-P